DEPARTMENT OF ENERGY

Federal Energy Regulatory Commission

[Docket No. ER01-760-000, et al.]

Pacific Gas and Electric Company, et al.; Electric Rate and Corporate Regulation Filings

January 3, 2001.

Take notice that the following filings have been made with the Commission:

1. Pacific Gas and Electric Company

[Docket No. ER01-760-000]

Take notice that on December 22, 2000, Pacific Gas and Electric Company (PG&E), tendered for filing a Notice of Termination of the 1996 Interconnection Agreement between PG&E and Port of Oakland, on file with this Commission as PG&E Rate Schedule FERC No. 194, an Interconnection Agreement (IA), a Letter Agreement, and a Service Agreement for Wholesale Distribution Service (Service Agreement), between PG&E and the Port of Oakland (Port). The IA and Letter Agreement provide the terms and conditions for the continued interconnection of the Electric Systems of Port and PG&E. The Service Agreement is submitted pursuant to the PG&E Wholesale Distribution Tariff (WDT), and permits PG&E to recover the ongoing costs for service required over PG&E's distribution facilities. PG&E has requested certain waivers.

Copies of this filing have been served upon Port, the California Independent System Operator Corporation and the California Public Utilities Commission.

Comment date: January 12, 2001, in accordance with Standard Paragraph E at the end of this notice.

2. Edison Mission Marketing & Trading, Inc.

[Docket No. ER01-782-000]

Take notice that on December 22, 2000, Edison Mission Marketing & Trading, Inc., tendered for filing an application for the Federal Energy Regulatory Commission's (Commission) authorization to sell ancillary services at market-based rates and a related amendment to its tariff.

Comment date: January 12, 2001, in accordance with Standard Paragraph E at the end of this notice.

3. EME Homer City Generation, L.P.

[Docket No. ER01-781-000]

Take notice that on December 22, 2000, EME Homer City Generation L.P. (EME), tendered for filing an application for the Federal Energy Regulatory Commission's (Commission) authorization to sell ancillary services at market-based rates, related amendment to its tariff, and a revised code of conduct.

Comment date: January 12, 2001, in accordance with Standard Paragraph E at the end of this notice.

4. Exelon Corporation, Commonwealth Edison Company and Commonwealth Edison Company of Indiana, Inc.

[Docket No. ER01-780-000]

Take notice that on December 22, 2000, Exelon Corporation, Commonwealth Edison Company and Commonwealth Edison Company of Indiana, Inc., gave notice, pursuant to Midwest Independent Transmission System Operator, Inc., 84 FERC ¶61,231 (1998), that they intend to withdraw the transmission systems of Commonwealth Edison Company and Commonwealth Edison Company of Indiana from the Midwest ISO. The companies request Commission approval no later than March 1, 2001.

Comment date: January 12, 2001, in accordance with Standard Paragraph E at the end of this notice.

5. Split Rock Energy, LLC

[Docket No. ER01-779-000]

Take notice that on December 21, 2000, Split Rock Energy, LLC, (Split Rock), tendered for filing in compliance with the Commission's current reporting requirements applicable to market based rate tariffs, Exhibit B dated December 15, 2000.

Comment date: January 12, 2001, in accordance with Standard Paragraph E at the end of this notice.

6. The Dayton Power and Light Company

[Docket No. ER01-778-000]

Take notice that on December 22, 2000, The Dayton Power and Light Company (Dayton), tendered for filing a service agreement establishing The Dayton Power and Light Company (Energy Services) as a customer under the terms of Dayton's Open Access Transmission Tariff.

Dayton requests an effective date of December 27, 2000 for the service agreement. Accordingly, Dayton requests waiver of the Commission's notice requirements. Copies of this filing were served upon Energy Services and The Public Utilities Commission of Ohio.

Comment date: January 12, 2001, in accordance with Standard Paragraph E at the end of this notice.

7. Virginia Electric and Power Company

[Docket No. ER01-777-000]

Take notice that on December 22, 2000, Virginia Electric and Power Company (the Company), tendered for filing Service Agreements for Short-Term Market Rate Electric Power Sales and the Resale of Transmission Rights with the following parties:

1. Metropolitan Edison Company

2. Jersey Central Power & Light Company

3. Pennsylvania Electric Company

Under the Service Agreements, the Company will provide services to the customers under the terms of the Company's Revised Market-Based Rate Tariff designated as FERC Electric Tariff (Third Revised Volume No. 4), which was accepted by order of the Commission dated August 30, 2000 in Docket No. ER00-1737-001.

The Company requests an effective date of December 22, 2000, the date the service agreements were filed.

Copies of the filing were served upon GPU Energy, the Virginia State Corporation Commission and the North Carolina Utilities Commission.

Comment date: January 12, 2001, in accordance with Standard Paragraph E at the end of this notice.

8. MidAmerican Energy Company

[Docket No. ER01-776-000]

Take notice that on December 22, 2000, MidAmerican Energy Company (MidAmerican), 666 Grand Avenue, Des Moines, Iowa 50303 submitted for filing with the Commission a Service Agreement dated January 1, 2001 with CMS Marketing, Service and Trading Company entered into pursuant to MidAmerican's Rate Schedule for Power Sales, FERC Electric Tariff, Original Volume No. 5 (Tariff).

MidAmerican requests an effective date of January 1, 2001 for this Agreement, and accordingly seeks a waiver of the Commission's notice requirement. MidAmerican has served a copy of the filing on CMS Marketing, Service and Trading Company, the Iowa Utilities Board, the Illinois Commerce Commission and the South Dakota Public Utilities Commission.

Comment date: January 12, 2001, in accordance with Standard Paragraph E at the end of this notice.

9. Central Illinois Light Company

[Docket No. ER01-775-000]

Take notice that on December 22, 2000, Central Illinois Light Company (CILCO), 300 Liberty Street, Peoria, Illinois 61602, tendered for filing Notice of Cancellation of its Wholesale Rate MW-6 with the Village of Riverton, Illinois.

Copies of the filing were served on the Illinois Commerce Commission and the Village of Riverton. CILCO states that the purpose of this filing is to cancel its Wholesale Rate MW-6 as of the end of the contract date with the Village of Riverton, Illinois.

Comment date: January 12, 2001, in accordance with Standard Paragraph E at the end of this notice.

10. Consumers Energy Company

[Docket No. ER01-774-000]

Take notice that on December 22, 2000, Consumers Energy Company (Consumers), tendered for filing executed Firm and Non-Firm Point to Point Transmission Service Agreements with Michigan South Central Power Agency and The Energy Authority (Customers) pursuant to the Joint Open Access Transmission Service Tariff filed on December 31, 1996 by Consumers and The Detroit Edison Company (Detroit Edison).

All four agreements have effective dates of November 27, 2000.

Copies of the filed agreements were served upon the Michigan Public Service Commission, Detroit Edison, and the Customers.

Comment date: January 12, 2001, in accordance with Standard Paragraph E at the end of this notice.

11. PJM Interconnection, L.L.C.

[Docket No. ER01-773-000]

Take notice that on December 22, 2000, PJM Interconnection, L.L.C. (PJM), tendered for filing changes to the Appendix to Attachment K to the PJM Open Access Transmission Tariff and Schedule 1 of the Amended and Restated Operating Agreement of PJM Interconnection, L.L.C., to limit the amount of Transmission Congestion Credits an entity that acquires a Fixed Transmission Right (FTR) through the FTR auction process may receive if it enters Increment Bids and Decrement Bids in the Day-ahead Market that result in an increase of Transmission Congestion Charges at or near the receipt or delivery point of the FTR.

Because the amendments address market abuse concerns of the PJM Market Monitoring Unit, PJM requests waiver of the Commission's 60-day notice requirement to permit an effective date of December 23, 2000 for the amendments.

Copies of this filing were served upon all members of PJM and each state electric utility regulatory commission in the PJM control area.

Comment date: January 12, 2001, in accordance with Standard Paragraph E at the end of this notice.

12. PJM Interconnection, L.L.C.

[Docket No. ER01-772-000]

Take notice that on December 22, 2000, PJM Interconnection, L.L.C. (PJM), tendered for filing amendments to the Amended and Restated Operating Agreement of PJM Interconnection, L.L.C. to clarify that, (1) to be a Member of PJM, an End-Use Customer does not have to be an Eligible Customer under PJM Open Access Transmission Tariff, and (2) to be an Other Supplier an entity must be a PJM member that engages in buying, selling or transmitting electric energy in or through PJM or have a good faith intent to do so.

Copies of this filing were served upon all PJM members and each state electric utility regulatory commission in the PJM control area.

PJM on behalf of the PJM Reliability Committee requests a waiver of the Commission's 60-day notification requirement to permit an effective date of December 23, 2000.

Comment date: January 12, 2001, in accordance with Standard Paragraph E at the end of this notice.

13. PJM Interconnection, L.L.C.

[Docket No. ER01-771-000]

Take notice that on December 22, 2000, PJM Interconnection, L.L.C. (PJM), tendered for filing the following executed agreements: (i) a network integration transmission service agreement for Allegheny Energy Supply Company, L.L.C. (Allegheny), and (ii) a network integration transmission service agreement for American Cooperative Services, Inc., (American).

Copies of this filing were served upon Allegheny, American, and the state commissions within the PJM control area.

Comment date: January 12, 2001, in accordance with Standard Paragraph E at the end of this notice.

14. Arizona Public Service Company

[Docket No. ER01-770-000]

Take notice that on December 22, 2000, Arizona Public Service Company (APS), tendered for filing an Unexecuted Interconnection and Operating Agreement with Panda Gila River LP under APS' Open Access Transmission Tariff.

A copy of this filing has been served on Panda Gila River LP and the Arizona Corporation Commission.

Comment date: January 12, 2001, in accordance with Standard Paragraph E at the end of this notice.

15. Central Illinois Light Company

[Docket No. ER01-769-000]

Take notice that on December 20, 2000, Central Illinois Light Company (CILCO), 300 Liberty Street, Peoria, Illinois 61602, tendered for filing with the Commission an Interconnection Agreement with AES Medina Valley Cogeneration L.L.C., for Generation Interconnection and Parallel Operation.

Copies of the filing were served on the affected customer and the Illinois Commerce Commission.

Comment date: January 12, 2001, in accordance with Standard Paragraph E at the end of this notice.

16. Public Service Electric and Gas Company

[Docket No. ER01-768-000]

Take notice that on December 22, 2000, Public Service Electric and Gas Company (PSE&G), tendered for filing the following Agreement between Atlantic City Electric Company (ACE) and PSEG Nuclear, LLC (PSEG Nuclear) in their capacity as Hope Creek Generating Station Owners, and ACE and PSE&G in their capacity as Hope Creek Switching Station Owners: (a) an Interconnection Agreement, designated as Service Agreement 208 under PJM Interconnection L.L.C.”s FERC Electric Tariff Third Revised Volume No. 1, to be effective on the initial operation date as PSE&G's Rate Schedule No. 168.

Copies of this filing were served on ACE.

Comment date: January 12, 2001, in accordance with Standard Paragraph E at the end of this notice.

17. Wisconsin River Power Company

[Docket No. ER01-767-000]

Take notice that on December 22, 2000, Wisconsin River Power Company (WRPCo), tendered for filing a First Revised Rate Schedule FERC No. 2 (Revised Rate Schedule) between WRPCo and Consolidated Water Power Company, Wisconsin Power & Light Company, and Wisconsin Public Service Corporation.

WRPCo requests that the Commission waive its notice of filing requirements to allow the Revised Rate Schedule to become effective as of January 1, 2001.

Copies of the filing were served upon the Wisconsin Power & Light Company, Wisconsin Public Service Corporation, Consolidated Water Power Company and the Public Service Commissions of Michigan and Wisconsin.

Comment date: January 12, 2001, in accordance with Standard Paragraph E at the end of this notice.

18. American Transmission Company LLC

[Docket No. ER01-765-000]

Take notice that on December 22, 2000, American Transmission Company LLC (ATCLLC), tendered for filing an Operating Agreement between Alliant Energy Corporate Services, Inc. and ATCLLC.

ATCLLC requests an effective date of January 1, 2001.

Comment date: January 12, 2001, in accordance with Standard Paragraph E at the end of this notice.

19. Consumers Energy Company

[Docket No. ER01-766-000]

Take notice that on December 22, 2000, Consumers Energy Company (Consumers), tendered for filing executed Transmission Service Agreements with the entities listed below (Customers) pursuant to the Joint Open Access Transmission Service Tariff filed on December 31, 1996 by Consumers and The Detroit Edison Company (Detroit Edison). The Agreements are for Firm or Non-Firm Point to Point Transmission Service or Network Integration Transmission Service. All of the agreements have effective dates of January 1, 2001.

The Customers are:

American Electric Power Company, Inc.

Aquila Energy Marketing Corporation

Cargill-Alliant, LLC

Cinergy Services, Inc.

CMS Marketing, Services and Trading

Consumers Energy—Electric Sourcing and Trading

Detroit Edison Merchant Operation

DTE Energy Trading, Inc.

Duke Power

Florida Power & Light Company

H.Q. Energy Services (U.S.), Inc.

Lansing Board of Water & Light

Northern Indiana Public Service Company

Public Service Company of Colorado

Rainbow Energy Marketing Corporation

Split Rock Energy LLC

Thumb Electric Company

Virginia Electric and Power Company

Copies of the filed agreements were served upon the Michigan Public Service Commission, Detroit Edison, and the Customers.

Comment date: January 12, 2001, in accordance with Standard Paragraph E at the end of this notice.

20. UtiliCorp United Inc.

[Docket No. ER01-764-000]

Take notice that on December 22, 2000, UtiliCorp United Inc. (UtiliCorp), tendered for filing UtiliCorp's FERC Electric Tariff, First Revised Volume No. 28. The revisions to the tariff incorporate references to St. Joseph Light & Power Company, delete references to West Virginia Power, incorporate UtiliCorp's current transmission and ancillary services rates, and provide for use of a Master Power Purchase and Sale Agreement.

Comment date: January 12, 2001, in accordance with Standard Paragraph E at the end of this notice.

21. Public Service Electric and Gas Company

[Docket No. ER01-763-000]

Take notice that on December 22, 2000, Public Service Electric and Gas Company (PSE&G), tendered for filing an Agreement between Atlantic City Electric Company (ACE), Delmarva Power & Light Company (DPL), PECO Energy Company (PECO), and PSEG Nuclear, LLC (PSEG Nuclear) in their capacity as Salem Generating Station Owners, and ACE, DPL, PECO and (PSE&G) in their capacity as Salem Switching Station Owners: (a) an Interconnection Agreement, designated as Service Agreement 208 under PJM Interconnection L.L.C.s FERC Electric Tariff Third Revised Volume No. 1, to be effective on the initial operation date as PSE&G's Rate Schedule No. 169.

Copies of this filing were served on ACE, DPL and PECO.

Comment date: January 12, 2001, in accordance with Standard Paragraph E at the end of this notice.

22. Consumers Energy Company

[Docket No. ER01-762-000]

Take notice that on December 22, 2000, Consumers Energy Company (Consumers), tendered for filing an executed revised Service Agreement for Firm and Non-Firm Point to Point Transmission Service with Quest Energy, L.L.C. (Customer) pursuant to the Joint Open Access Transmission Service Tariff filed on December 31, 1996 by Consumers and The Detroit Edison Company (Detroit Edison).

Consumers is requesting an effective date of November 29, 2000. Customer is taking service under the Service Agreement in connection with Consumers' Electric Customer Choice program.

Copies of the filed agreement were served upon the Michigan Public Service Commission, Detroit Edison, and the Customer.

Comment date: January 12, 2001, in accordance with Standard Paragraph E at the end of this notice.

23. Southern California Edison Company

[Docket No. ER01-761-000]

Take notice that on December 22, 2000, Southern California Edison Company (SCE), tendered for filing a change in rate for the Transmission Revenue Balancing Account Adjustment (TRBAA) set forth in its Transmission Owner Tariff (TO Tariff) to become effective January 1, 2001. The TRBAA rate is proposed to be a negative $0.00115 per kilowatt-hour.

Copies of this filing were served upon the Public Utilities Commission of the State of California, the California Independent System Operator, and all interested parties.

Comment date: January 12, 2001, in accordance with Standard Paragraph E at the end of this notice.

24. Potomac Electric Power Company

[Docket Nos. EC00-141-000 and ER00-3727-001]

Take notice that on December 21, 2000, Potomac Electric Power Company tendered for filing in compliance with the Federal Energy Regulatory Commission's (Commission) December 12, 2000 order, a supplement to its September 20, 2000 filing, executed versions of the Interconnection Agreements with the rate designations ascribed to them in the Commission's December 12, 2000 order.

Comment date: January 12, 2001, in accordance with Standard Paragraph E at the end of this notice.

25. Allegheny Energy Supply Conemaugh, LLC

[Docket No. EG01-84-000]

Take notice that on December 26, 2000, Allegheny Energy Supply Conemaugh, LLC filed an Application for Determination of Exempt Wholesale Generator Status pursuant to Section 32(a)(1) of the Public Utility Holding Company Act of 1935, all as more fully explained in the Application.

Comment date: January 24, 2001, in accordance with Standard Paragraph E at the end of this notice. The Commission will limit its consideration of comments to those that concern the adequacy or accuracy of the application.

26. TransCanada Power, L.P.

[Docket No. EG01-85-000]

Take notice that on December 26, 2000, TransCanada Power, L.P., with its principal place of business at 450 1st Street S.W., Calgary, Alberta T2P 5H1, filed with the Federal Energy Regulatory Commission an application for determination of exempt wholesale generator status pursuant to Part 365 of the Commission's regulations. TransCanada Power, L.P. is a Canadian limited partnership which indirectly owns a 64 MW (average net) combined-cycle cogeneration facility at Castleton-on-Hudson, New York.

Comment date: January 24, 2001, in accordance with Standard Paragraph E at the end of this notice. The Commission will limit its consideration of comments to those that concern the adequacy or accuracy of the application.

27. Ocean State Power II

[Docket No. EG01-86-000]

Take notice that on December 26, 2000, Ocean State Power II, with its principal place of business at 1575 Sherman Farm Road, Harrisville RI 02830-1124, filed with the Federal Energy Regulatory Commission an application for determination of exempt wholesale generator status pursuant to Part 365 of the Commission's regulations. Ocean State Power II is a Rhode Island general partnership which owns a power generator facility at Burrillville, Rhode Island.

Comment date: January 24, 2001, in accordance with Standard Paragraph E at the end of this notice. The Commission will limit its consideration of comments to those that concern the adequacy or accuracy of the application.

28. Ocean State Power

[Docket No. EG01-87-000]

Take notice that on December 27, 2000, Ocean State Power, with its principal place of business at 1575 Sherman Farm Road, Harrisville RI 02830-1124, filed with the Federal Energy Regulatory Commission an application for determination of exempt wholesale generator status pursuant to Part 365 of the Commission's regulations. Ocean State Power is a Rhode Island general partnership which owns a power generation facility at Burrillville, Rhode Island.

Comment date: January 24, 2001, in accordance with Standard Paragraph E at the end of this notice. The Commission will limit its consideration of comments to those that concern the adequacy or accuracy of the application.

29. TransCanada Power (Williams Lake) Ltd.

[Docket No. EG01-88-000]

Take notice that on December 26, 2000, TransCanada Power (Williams Lake) Ltd., with its principal place of business at 450 1st Street. S.W., Calgary, Alberta T2P 5H1, filed with the Federal Energy Regulatory Commission an application for determination of exempt wholesale generator status pursuant to Part 365 of the Commission's regulations. TransCanada Power (Williams Lake) Ltd. owns Inland Pacific Enterprises Ltd., which owns a 49% interest in a 66 MW combined cycle power plant at Williams Lake, British Columbia, the output of which is sold under a long-term contract to B.C. Hydro.

Comment date: January 24, 2001, in accordance with Standard Paragraph E at the end of this notice. The Commission will limit its consideration of comments to those that concern the adequacy or accuracy of the application.

30. Trans Canada Power (Castleton) LLC

[Docket No. EG01-89-000]

Take notice that on December 26, 2000, TransCanada Power (Castleton) LLC, with its principal place of business at 450 1st Street S.W., Calgary, Alberta T2P 5H1, filed with the Federal Energy Regulatory Commission an application for determination of exempt wholesale generator status pursuant to Part 365 of the Commission's regulations. TransCanada Power (Castleton) LLC is a Delaware limited liability company which owns a 64 MW (average net) combined-cycle cogeneration facility at Castleton-on-Hudson, New York.

Comment date: January 24, 2001, in accordance with Standard Paragraph E at the end of this notice. The Commission will limit its consideration of comments to those that concern the adequacy or accuracy of the application.

31. TC Power (Castleton) Ltd.

[Docket No. EG01-90-000]

Take notice that on December 26, 2000, TC Power (Castleton) Ltd., with its principal place of business at 450 1st Street S.W., Calgary, Alberta T2P 5A4, filed with the Federal Energy Regulatory Commission an application for determination of exempt wholesale generator status pursuant to Part 365 of the Commission's regulations. TC Power (Castleton) Ltd. is the sole member of TransCanada Power (Castleton) LLC, a Delaware limited liability company which owns a 64 MW (average net) combined-cycle cogeneration facility at Castleton-on-Hudson, New York..

Comment date: January 24, 2001, in accordance with Standard Paragraph E at the end of this notice. The Commission will limit its consideration of comments to those that concern the adequacy or accuracy of the application.

32. Constellation Power Source Generation, LLC

[Docket No. EG01-91-000]

Take notice that on December 28, 2000, Constellation Power Source Generation, LLC (Applicant), a to be formed Delaware limited liability company with its principal place of business at 111 Market Place, Suite 500, Baltimore, Maryland 21202, filed with the Federal Energy Regulatory Commission an application for determination of exempt wholesale generator status pursuant to part 365 of the Commission's regulations.

Comment date: January 24, 2001, in accordance with Standard Paragraph E at the end of this notice. The Commission will limit its consideration of comments to those that concern the adequacy or accuracy of the application.

33. Calvert Cliffs Nuclear Power Plant, LLC

[Docket No. EG01-92-000]

Take notice that on December 28, 2000, Calvert Cliffs Nuclear Power Plant, LLC (Applicant), a to be formed Delaware limited liability company with its principal place of business at 39 W. Lexington Street, Baltimore, Maryland 21201, filed with the Federal Energy Regulatory Commission an application for determination of exempt wholesale generator status pursuant to part 365 of the Commission's regulations.

Comment date: January 24, 2001, in accordance with Standard Paragraph E at the end of this notice. The Commission will limit its consideration of comments to those that concern the adequacy or accuracy of the application.

34. Idaho Power Company

[Docket No. EL01-22-000]

Take notice that on December 20, 2000, Idaho Power Company filed a Petition for Declaratory Order in the above-captioned proceeding.

Comment date: January 22, 2001, in accordance with Standard Paragraph E at the end of this notice.

35. New York Independent System Operator, Inc.

[Docket No. EL01-24-000]

Take notice that on December 22, 2000, the New York Independent System Operator, Inc. (NYISO) filed a Request for Additional Limited Waiver from Certain OASIS Requirements.

Copies of this filing were served on the Commission's Service List in Docket Nos. ER97-1523-000 et al., and on the respective electric utility regulatory agencies in New York, New Jersey and Pennsylvania.

Comment date: January 22, 2001, in accordance with Standard Paragraph E at the end of this notice.

36. New York Independent System Operator, Inc.

[Docket Nos. ER97-1523-005, ER97-1523-006, OA97-470-006, ER97-4234-004, EC99-31-001]

Take notice that on December 19, 2000, the New York Independent System Operator, Inc. filed a Report on Governance Issues in the above-captioned dockets.

A copy of this filing was served upon all parties in the above-captioned dockets.

Comment date: January 12, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 01-517 Filed 1-8-01; 8:45 am]

BILLING CODE 6717-01-P